SMALL BUSINESS ADMINISTRATION

Privacy Act System of Records

AGENCY: Small Business Administration.

ACTION: Notice of new Privacy Act system of records and request for comment.

SUMMARY: The Small Business Administration (SBA) is amending its Privacy Act Systems of Records to add a new System of Records to maintain the protected information collected from applicants and participants in the Small Business Innovation Research (SBIR) and Small Business Technology Transfer (STTR) Programs.

DATES: Written comments on the system of records must be received on before May 22, 2013. The notice will be effective without further publication at the end of the comment period, unless comments are received which require further amendments.

ADDRESSES: Written comments on this system of records should be directed to Edsel M. Brown, Assistant Administrator, Office of Technology, U.S. Small Business Administration, 409 3rd Street SW., Washington, DC 20416.

FOR FURTHER INFORMATION CONTACT: Edsel M. Brown, Assistant Director, Office of Technology, at (202) 205-7343.

SUPPLEMENTARY INFORMATION: The Privacy Act (5 U.S.C. 552a) requires federal agencies to publish a notice of systems of records in the Federal Register whenever they establish a new system of records or make a significant change to an established system of records. Each notice must identify and describe the system of records the Agency maintains, the reasons why the agency collects the personally identifying information, the routine uses for which the agency will disclose such information outside the agency, and how individuals may exercise their rights under the Privacy Act to determine if, among other things, the system contains information about them. The information about each individual is called a “record,” and the system, whether manual or computer-based, is called a “system of records.” The Privacy Act applies to any record about an individual that is maintained in a system of records from which individually identifying information is retrieved by a unique identifier associated with each individual, such as a name or Social Security number.

SYSTEM NAME:

TechNet—SBA 38.

SYSTEM LOCATION:

SBA's Office of Technology, Office of Investment and Innovation, Small Business Administration, 409 Third Street SW., Washington, DC 20416.

CATEGORIES OF INDIVIDUALS COVERED BY THE SYSTEM INCLUDES:

Persons who submit applications to or receive awards under the SBIR and STTR programs; principal investigators and key individuals working for SBIR and STTR applicants and awardees.

CATEGORIES OF RECORDS IN THE SYSTEM:

Names, work phone numbers, and email addresses for owners, key individuals and principal investigators; individual owners' social security numbers; fraud related criminal history; history of civil fraud violations related to the SBIR and STTR programs; and the social and economic disadvantaged status of principal investigators.

AUTHORITY FOR MAINTENANCE OF THE SYSTEM:

15 U.S.C. 638.

ROUTINE USES OF RECORDS MAINTAINED IN THE SYSTEM, INCLUDING CATEGORIES OF USERS AND THE PURPOSES OF SUCH USES, THESE RECORDS MAY BE USED, DISCLOSED OR REFERRED:

a. To the court or administrative tribunal and other parties in litigation, when a suit or administrative action has been initiated.

b. To a Congressional office from an individual's record, when that office is inquiring on the individual's behalf; the Member's access rights are no greater than the individual's.

c. To SBA employees, volunteers, contractors, interns, grantees, and experts who have been engaged by SBA to assist in the performance of a service related to this system of records and who need access to the records in order to perform this activity. Recipients of these records shall be required to comply with the requirements of the Privacy Act of 1974, as amended, 5 U.S.C. Sec. 552a.

d. To the Department of Justice (DOJ) when any of the following is a party to litigation or has an interest in such litigation, and the use of such records by DOJ is deemed by SBA to be relevant and necessary to the litigation, provided, however, that in each case, SBA determines the disclosure of the records to DOJ is a use of the information contained in the records that is compatible with the purpose for which the records were collected: SBA, or any component thereof; any SBA employee in their official capacity; any SBA employee in their individual capacity where DOJ has agreed to represent the employee; or The United States Government, where SBA determines that litigation is likely to affect SBA or any of its components.

e. In a proceeding before a court, or adjudicative body, or a dispute resolution body before which SBA is authorized to appear or before which any of the following is a party to litigation or has an interest in litigation, provided, however, that SBA determines that the use of such records is relevant and necessary to the litigation, and that, in each case, SBA determines that disclosure of the records to a court or other adjudicative body is a use of the information contained in the records that is a compatible purpose for which the records were collected: SBA, or any SBA component; any SBA employee in their official capacity; any SBA employee in their individual capacity where DOJ has agreed to represent the employee; or The United States Government, where SBA determines that litigation is likely to affect SBA or any of its components.

f. To appropriate agencies, entities, and persons when: SBA suspects or has confirmed that the security or confidentiality of information in the system records has been compromised; SBA has determined that as a result of the suspected or confirmed compromise there is a risk of harm to economic or property interests, identify theft or fraud, or harm to the security of integrity of this system or other systems or programs (whether maintained by the Agency or entity) that rely upon the compromised information; and the disclosure made to such agencies, entities and persons is reasonably necessary to assist in connection with SBA's efforts to respond to the suspected or confirmed compromise and prevent, minimize, or remedy such harm.

g. To Congress, the Government Accountability Office, agencies participating in the SBIR and the STTR programs (Department of Agriculture, Department of Commerce (National Institute of Standards and Technology and National Oceanic and Atmospheric Administration), Department of Defense, Department of Education, Department of Energy, Department of Health and Human Services, Department of Homeland Security, Department of Transportation, Environmental Protection Agency, National Aeronautics and Space Administration, and the National Science Foundation), Office of Management and Budget, Office of Science and Technology Policy, Office of Federal Procurement Policy, and other authorized persons who are subject to a use and nondisclosure agreement with the Federal Government covering the use of the database for the purposes of program evaluation and auditing.

POLICIES AND PRACTICES FOR STORING, RETRIEVING, ACCESSING, RETAINING AND DISPOSING OF RECORDS:

STORAGE:

Paper and electronic files.

RETRIEVAL:

SBA will retrieve records using a unique tracking number assigned by SBA or another participating agency, as well as by company name.

SAFEGUARDS:

The access to the system is restricted to registered users only, which include applicants, current awardees, and past-awardees of the SBIR or STTR programs from any of the 11 SBIR/STTR agencies, and registered Government Agency users. The access to information for the logged-in users is based on the role assigned to them during the registration process. These roles ensure users are only able to access their own records and not the records of other users.

RETENTION AND DISPOSAL:

TechNet is a unique, mission critical system of the SBA. The input data is temporary and have a one year retention period. The data in the system have a permanent retention in accordance with NARA disposition authority approved under Request for Records Disposition Authority—N1-309-03-001.

SYSTEM MANAGER(S) AND ADDRESS:

Associate Administrator for Investment, Office of Investment and Innovation, 409 Third Street SW., Washington DC 20416.

NOTIFICATION PROCEDURE:

Individuals may make record inquiries in person or in writing to the Systems Manager or SBA's Privacy Act Officer.

ACCESS PROCEDURES:

Individuals who must create an account will furnish their Company's name, the authorized user's name, the company's EIN and DUNS numbers and email address of the principal of the firm. These details are to be submitted through a web-based registration form available on sbir.gov public-facing site. The company name, EIN, and name of the principal of the firm will be publicly available for all awardees as required by Congress.

CONTESTING PROCEDURES:

Individuals seeking to contest or amend information maintained in this system of records should notify the SBA Privacy Act Officer, Lisa J. Babcock, 409 Third Street SW., Washington DC 20416, or System Manager listed above, state reason(s) for contesting any information in the record and provide proposed amendment(s).

SOURCE CATEGORIES:

The SBIR/STTR applicants and awardees, including information submitted to the SBIR/STTR participating agencies. In addition, SBIR.gov system interfaces with System for Award Management (SAM) database to complete the authentication process for new small business users' registration.

Dated: April 15, 2013.
Pravina Raghavan,
Acting Associate Administrator for Investment, Director, Office of Investments & Innovation.

[FR Doc. 2013-09335 Filed 4-19-13; 8:45 am]

BILLING CODE 8025-01-P